DEPARTMENT OF ENERGY

Federal Energy Regulatory Commission

Revised Notice for Commission Open Meeting on September 18, 2008

September 12, 2008.

On September 11, 2008, the Commission issued a Notice pursuant to the Government in the Sunshine Act, 5 U.S.C. 552b, announcing the agenda for the Commission's open meeting to be held on September 18, 2008.

Take notice that the docket numbers for the item listed as “E-25” are revised to read as follows:

E-25; RM06-16-004 and RR08-1-001.

A corrected version of the Sunshine Notice for the September 18, 2008 open meeting will be posted in the Commission's eLibrary system and the Commission's Web site.

This Notice is issued pursuant to the Government in the Sunshine Act, 5 U.S.C. 552b. Chairman Kelliher, Commissioners Kelly, Spitzer, Moeller and Wellinghoff, voted to issue this notice on September 12, 2008.

Nathaniel J. Davis, Sr.,
Deputy Secretary.

[FR Doc. E8-21869 Filed 9-18-08; 8:45 am]

BILLING CODE 6717-01-P